NATIONAL CREDIT UNION ADMINISTRATION

Agency Information Collection Activities: Submission to OMB for Review; Comment Request

AGENCY: National Credit Union Administration (NCUA).

ACTION: Request for comment.

SUMMARY: The NCUA is resubmitting the following information collection without change to the Office of Management and Budget (OMB) for review and clearance under the Paperwork Reduction Act of 1995 (Pub. L. 104-13, 44 U.S.C. Chapter 35). This information collection is published to obtain comments from the public.

DATES: Comments will be accepted until November 5, 2001.

ADDRESSES: Interested parties are invited to submit written comments to NCUA Clearance Officer or OMB Reviewer listed below:

Clearance Officer: Mr. C. Keith Morton (703) 518-6411, National Credit Union Administration, 1775 Duke Street, Alexandria, Virginia 22314-3428, Fax No. 703-518-6433, E-mail: ckmorton@ncua.gov.

OMB Reviewer: Alexander T. Hunt (202) 395-7860, Office of Management and Budget, Room 10226, New Executive Office Building, Washington, DC 20503.

FOR FURTHER INFORMATION CONTACT: Copies of the information collection requests, with applicable supporting documentation, may be obtained by calling the NCUA Clearance Officer, C. Keith Morton, (703) 518-6411.

SUPPLEMENTARY INFORMATION: Proposals for the following collection of information:

OMB Number: 3133-0116.

Form Number: NCUA 9600, NCUA 4401, NCUA 4221, NCUA 4505, & NCUA 4506.

Type of Review: Extension of a currently approved collection.

Title: 12 U.S.C. 1771—Conversion from Federal to State Credit Union and from State to Federal Credit Union.

12 U.S.C. 1781—Insurance of Member Accounts—Eligibility.

Description: The forms constitute the application for an approval of credit union conversions from federal to state charter and from state to federal charter. In addition, forms in the package contain the application and approval for federal insurance of member accounts in credit unions.

Respondents: Credit unions seeking to convert from federal to state charter and from state to federal charter and non-federally insured state chartered credit unions seeking federal share insurance.

Estimated No. of Respondents/Recordkeepers: 50.

Estimated Burden Hours Per Response: 4 hours.

Frequency of Response: Other. As credit unions seek approval to convert charter or federal share insurance.

Estimated Total Annual Burden Hours: 200.

Estimated Total Annual Cost: N/A.

Dated: By the National Credit Union Administration Board on August 30, 2001.
Hattie M. Ulan,
Acting Secretary of the Board.

[FR Doc. 01-22296 Filed 9-5-01; 8:45 am]

BILLING CODE 7535-01-U